DEPARTMENT OF JUSTICE

[OMB Number 1140-0014]

Agency Information Collection Activities; Proposed eCollection eComments Requested; Revision of a Previously Approved Collection; Application for Tax Paid Transfer and Registration of Firearm—ATF Form 4 (5320.4)

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995.

DATES: Comments are encouraged and will be accepted for 60 days until June 20, 2023.

FOR FURTHER INFORMATION CONTACT: If you have additional comments regarding the estimated public burden or associated response time, suggestions, or need a copy of the proposed information collection instrument with instructions, or additional information, contact: Connor Brandt, National Firearms Act Division either by mail at 244 Needy Road, Martinsburg, WV 25405, by email at nfaombcomments@atf.gov, or by telephone at 304-616-3175.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Application for Tax Paid Transfer and Registration of Firearm—ATF Form 4 (5320.4) must be completed to obtain permission to transfer and register a National Firearms Act (NFA) firearm. The Information Collection Request (ICR) OMB Number 1140-0014 is being revised to include additional questions, clarification added to directions and grammar changes.

Overview of This Information Collection

1. Type of Information Collection: Revision of a currently approved collection.

2. The Title of the Form/Collection: Application for Tax Paid Transfer and Registration of Firearm.

3. The agency form number, if any, and the applicable component of the Department sponsoring the collection: Form number: ATF Form 4 (5320.4). Component: Bureau of Alcohol, Tobacco, Firearms and Explosives, U.S. Department of Justice.

4. Affected public who will be asked or required to respond as well as the obligation to respond: Individuals or households, Private Sector—businesses or other for-profit, business or other for-profit, Federal Government, State, Local, or Tribal Government and Farms. The obligation to respond is mandatory per 27 CFR 479.85.

5. An estimate of the total number of respondents and the amount of time estimated for an average respondent to respond: An estimated 123,339 respondents will respond to this collection once annually, and it will take each respondent an average 3.78433 hours to complete.

6. An estimate of the total public burden (in hours) and annual cost burden associated with the collection: The estimated annual public burden associated with this collection is 466,755 hours. The annual cost burden is $6,649,205 as there is a tax of $5 or $200 on the transfer of an NFA firearm.

Total Annual Burden
Activity—ATF form 4 | Estimated number of respondents | Frequency | Estimated total annual responses | Estimated time per response | Estimated total annual burden (hours)
Private Sector | 24,667 | 1 | 24,667 | 3.78433 | 93,348
Individuals | 24,667 | 1 | 24,667 | 3.78433 | 93.348
Farms | 20,000 | 1 | 20,000 | 3.78433 | 75,687
Federal Government | 39,005 | 1 | 39,005 | 3.78433 | 147,607
State, Local, Tribal Govt | 15,000 | 1 | 15,000 | 3.78433 | 56,765
Unduplicated Totals | 123,339 |  | 123,339 |  | 466,755

If additional information is required contact: John R. Carlson, Department Clearance Officer, United States Department of Justice, Justice Management Division, Policy and Planning Staff, Two Constitution Square, 145 N Street NE, 4W-218, Washington, DC 20530.

Dated: April 14, 2023.
John R. Carlson,
Department Clearance Officer for PRA, U.S. Department of Justice.

[FR Doc. 2023-08385 Filed 4-19-23; 8:45 am]

BILLING CODE 4410-FY-P